DEPARTMENT OF HOMELAND SECURITY

Coast Guard

33 CFR Part 117

[Docket No. USCG-2017-0880]

Drawbridge Operation Regulation; Plum Island River, Newbury, MA

AGENCY: Coast Guard, DHS.

ACTION: Notice of deviation from drawbridge regulation.

SUMMARY: The Coast Guard has issued a temporary deviation from the operating schedule that governs the Plum Island Turnpike Bridge across Plum Island River, mile 3.3, between Newburyport and Plum Island, Massachusetts. This deviation is necessary to facilitate a planned water main repair project and allows the bridge to be closed for twenty nine days.

DATES: This deviation is effective from 5 a.m. on October 10, 2017 through 5 p.m. on November 7, 2017.

ADDRESSES: The docket for this deviation, USCG-2017-0880, is available at http://www.regulations.gov. Type the docket number in the “SEARCH” box and click “SEARCH”. Click on Open Docket Folder on the line associated with this deviation.

FOR FURTHER INFORMATION CONTACT: If you have questions on this temporary deviation, call or email James L. Rousseau, Bridge Management Specialist, First District Bridge Branch, U.S. Coast Guard; telephone 617-223-8619, email James.L.Rousseau2@uscg.mil.

SUPPLEMENTARY INFORMATION: The owner of the bridge, the Massachusetts Department of Transportation, requested a temporary deviation in order to facilitate a planned water main repair next to the bridge. The project includes installing a temporary water main bypass on the bridge, preventing span operation.

The Plum Island Turnpike Bridge across Plum Island River, mile 3.3, between Newburyport and Plum Island, Massachusetts is a bascule bridge with a vertical clearance of 13 feet at mean high water and 21 feet at mean low water in the closed position. The existing drawbridge operating regulations are listed at 33 CFR 117.615.

This temporary deviation allows the Plum Island Turnpike Bridge to remain closed beginning 5 a.m. October 10, 2017 until 5 p.m. November 7, 2017. Plum Island River is transited by small recreational vessels. Coordination with waterway users has indicated no objections to the closure of the draw and no requests for openings have occurred during this period for the last three years.

Vessels that can pass under the bridge without an opening may do so at all times. The bridge will not be able to open for emergencies. The Atlantic Ocean can be used as an alternate route for vessels to pass. The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: September 27, 2017.
Christopher J. Bisignano,
Supervisory Bridge Management Specialist, First Coast Guard District.

[FR Doc. 2017-21067 Filed 9-29-17; 8:45 am]

BILLING CODE 9110-04-P